DEPARTMENT OF TRANSPORTATION

Federal Aviation Administration

14 CFR Part 71

[Docket No. FAA-2022-1614; Airspace Docket No. 22-ASO-28]

RIN 2120-AA66

Amendment of Class D and E Airspace; Macon, GA

AGENCY: Federal Aviation Administration (FAA), DOT.

ACTION: Final rule; correction.

SUMMARY: A final rule was published in the Federal Register on March 29, 2023, amending Class D airspace, Class E surface airspace, and Class E airspace extending upward from 700 feet above the surface at Middle Georgia Regional Airport, Macon, GA. The legal description for Class E surface airspace inadvertently referenced Class D airspace. This action corrects this error.

DATES: Effective 0901 UTC, June 15, 2023. The Director of the Federal Register approves this incorporation by reference action under 1 CFR part 51, subject to the annual revision of FAA Order JO 7400.11 and publication of conforming amendments.

FOR FURTHER INFORMATION CONTACT: Jennifer Ledford, Operations Support Group, Eastern Service Center, Federal Aviation Administration, 1701 Columbia Ave., College Park, GA 30337; Telephone (404) 305-5649.

SUPPLEMENTARY INFORMATION:

Authority for This Rulemaking

History

The FAA published a final rule in the Federal Register (88 FR 18392, March 29, 2023) for Doc. No. FAA-2022-1614, amending Class D airspace, Class E surface airspace, and Class E airspace extending upward from 700 feet above the surface at Middle Georgia Regional Airport, Macon, GA. The legal description for Class E surface airspace inadvertently referenced Class D airspace. This action corrects this error.

Class D and Class E airspace designations are published in Paragraphs 5000, 6002, and 6005 of FAA Order JO 7400.11G dated August 19, 2022, and effective September 15, 2022, which is incorporated by reference in 14 CFR 71.1. The Class D and E airspace designations listed in this document will subsequently be published in FAA Order JO 7400.11G.

Correction to Final Rule

This action amends (14 CFR) part 71 by replacing the reference to the Class D airspace in the Class E surface airspace description at Middle Georgia Regional Airport with reference to Class E airspace.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances warrant the preparation of an environmental assessment.

List of Subjects in 14 CFR Part 71

Airspace, Incorporation by reference, Navigation (air).

Correction to the Final Rule

Accordingly, pursuant to the authority delegated to me, the amendment of Class E surface airspace for Middle Georgia Regional Airport, Macon, GA, in Docket No. FAA-2022-1614, as published in the Federal Register of March 29, 2023 (88 FR 18392), FR Doc. 2023-06324, in 14 CFR part 71, is corrected as follows:

§ 71.1 [Corrected]

1. On page 18393, in the first column, correct the description for ASO GA E2 Macon, GA [Amended] to read:

* * * * *

ASO GA E2 Macon, GA [Amended]

Middle Georgia Regional Airport, GA

(Lat 32°41′34″ N, long 83°38′57″ W)

Robins AFB

(Lat 32°38′25″ N, long 83°35′31″ W)

That airspace extending upward from the surface within a 4.9-mile radius of Middle Georgia Regional Airport, excluding the portion within the 5.5-mile radius of Robins AFB Airport that lies south of a line connecting the two points of intersection of the 5.5-mile radius circle centered on the Robins AFB Airport and the 4.1-mile radius of Middle Georgia Regional Airport. This Class E airspace area is effective during the specific dates and times established in advance by a Notice to Air Missions. The effective date and time will thereafter be continuously published in the Chart Supplement.

Issued in College Park, Georgia, on April 11, 2023.
Andreese C. Davis,
Manager, Airspace & Procedures Team South, Eastern Service Center, Air Traffic Organization.

[FR Doc. 2023-07902 Filed 4-17-23; 8:45 am]

BILLING CODE 4910-13-P